DEPARTMENT OF HOMELAND SECURITY

Coast Guard

46 CFR Parts 122 and 185

[Docket No. USCG-2021-0306]

RIN 1625-AC69

Fire Safety of Small Passenger Vessels; OMB Approval of Information Collection Request

AGENCY: Coast Guard, DHS.

ACTION: Interim rule; information collection approval.

SUMMARY: The Coast Guard announces that it has received approval from the Office of Management and Budget (OMB) for an information collection request associated with the interim rule requirements for fire safety on certain covered small passenger vessels. This rule announces the effective dates for the requirements for vessel operators to log the occurrence of passenger emergency egress drills and to post passenger safety bills in overnight accommodation spaces. In the interim rule, we stated we would publish a document in the Federal Register announcing the effective date of the collection-of-information related sections upon OMB approval. This rule establishes April 24, 2023 as the effective date for those sections.

DATES: This rule is effective April 24, 2023. The amendments to 46 CFR 122.507, 122.515, 185.507, and 185.515, published on December 27, 2021 (86 FR 73160) are effective on April 24, 2023.

ADDRESSES: To view documents mentioned as being available in the docket, including the interim rule published on December 27, 2021 (86 FR 73160), search the docket number USCG-2021-0306 using the Federal eRulemaking Portal at https://www.regulations.gov.

FOR FURTHER INFORMATION CONTACT: For information about this document, call or email Lieutenant Carmine Faul, Coast Guard; telephone 202-475-1357, email carmine.a.faul@uscg.mil.

SUPPLEMENTARY INFORMATION: On December 27, 2021, the Coast Guard published an interim rule titled “Fire Safety on Small Passenger Vessels” that added several requirements for certain covered small passenger vessels. The requirements in the interim rule are based on 46 U.S.C. 3306(n), which was codified by section 8441 of the Elijah E. Cummings Coast Guard Authorization Act of 2020 (Pub. L. 116-283, Jan. 1, 2021). The statute directs the Secretary of the Department of Homeland Security (DHS) to prescribe fire safety regulations for small passenger vessels with overnight accommodations for passengers or operating on Oceans or Coastwise routes, excluding fishing vessels and ferries.

The interim rule contained four provisions that were delayed indefinitely, pending information collection approval from OMB under the Paperwork Reduction Act of 1995, 44 U.S.C. 3501-3520. On February 24, 2023, OMB, Office of Information and Regulatory Affairs, approved the additional information collection requirements in 46 CFR 122.507(b), 122.515(b), 185.507(b), and 185.515(a) within the existing OMB Control Number 1625-0057. Accordingly, we announce that §§ 122.507(b), 122.515(b), 185.507(b), and 185.515(a) are effective April 24, 2023.

Sections 122.507(b) and 185.507(b) relate to logging the occurrence of the mandatory passenger egress drills. Under these paragraphs, passenger egress drills must be logged or otherwise documented, including the date and time of the drill and the number of drill participants. The log will be used by the Coast Guard to confirm that the vessel operators are conducting the passenger egress drills.

Sections 122.515(b) and 185.515(a) contain the requirements for the vessel operator or owner to post the passenger safety bill in each passenger cabin and stateroom, and in passenger accommodation spaces.

These requirements for recording passenger egress drills and posting a passenger safety bill are based on the authority in 46 U.S.C. 3306(n)(3)(A)(vii) and (viii).

As we stated in the interim rule, the passenger emergency egress drills log requirement and the posting of the passenger safety bill apply to vessels regulated under 46 CFR subchapter T and K that have overnight accommodations for passengers.

List of Subjects in 46 CFR Parts 122 and 185

46 CFR Part 122

Marine safety, Passenger vessels, Penalties, Reporting and recordkeeping requirements.

46 CFR Part 185

Marine safety, Passenger vessels, Reporting and recordkeeping requirements.

For the reasons discussed in the preamble, the Coast Guard amends 46 CFR parts 122 and 185 as follows:

Title 46—Shipping

PART 122—OPERATIONS

1. The authority citation for part 122 continues to read as follows:

Authority: 46 U.S.C. 2103, 3306, 6101; E.O. 12234, 45 FR 58801, 3 CFR, 1980 Comp., p. 277; DHS Delegation 00170.1, Revision No. 01.2, paragraph (II)(92)(a).

2. Amend § 122.507 by adding paragraph (b) to read as follows:

§ 122.507 Passenger egress drills.

* * * * *

(b) Passenger egress drills must be logged or otherwise documented for review by the Coast Guard upon request. The drill entry must include the following information:

(1) Date and time of the drill; and

(2) Number of drill participants.

3. Amend § 122.515 as follows:

a. Redesignate paragraph (b) as paragraph (c); and

b. Add new paragraph (b).

The addition reads as follows:

§ 122.515 Passenger safety bill.

* * * * *

(b) For vessels described by 46 CFR 114.110(f), the master must post a passenger safety bill in each passenger cabin or stateroom and in passenger accommodation spaces.

* * * * *

PART 185—OPERATIONS

4. The authority citation for part 185 continues to read as follows:

Authority: 46 U.S.C. 2103, 3306, 6101; E.O. 12234, 45 FR 58801, 3 CFR, 1980 Comp., p. 277; DHS Delegation 00170.1, Revision No. 01.2, paragraph (II)(92)(a).

5. Amend § 185.507 by adding paragraph (b) to read as follows:

§ 185.507 Passenger egress drills.

* * * * *

(b) Passenger egress drills must be logged or otherwise documented for review by the Coast Guard upon request. The drill entry must include the following information:

(1) Date and time of the drill; and

(2) Number of drill participants.

6. Amend § 185.515 by adding paragraph (a) to read as follows:

§ 185.515 Passenger safety bill.

(a) On vessels described by 46 CFR 175.110(d) of this chapter, a passenger safety bill must be posted by the master in each cabin or stateroom, and in passenger accommodation spaces.

* * * * *

Dated: March 17, 2023
W.R. Arguin,
Rear Admiral, U.S. Coast Guard, Assistant Commandant for Prevention Policy.

[FR Doc. 2023-05947 Filed 3-23-23; 8:45 am]

BILLING CODE 9110-04-P